FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than October 22, 2021.

A. Federal Reserve Bank of San Francisco (Sebastian Astrada, Director, Applications) 101 Market Street, San Francisco, California 94105-1579:

1. The Vanguard Group, Inc., Malvern, Pennsylvania; on behalf of itself, its subsidiaries and affiliates, including investment companies registered under the Investment Company Act of 1940, other pooled investment vehicles, and institutional accounts that are sponsored, managed, or advised by Vanguard; to acquire additional voting shares of First American Financial Corporation, and thereby indirectly acquire voting shares of First American Trust, FSB, both of Santa Ana, California.

2. The Vanguard Group, Inc., Malvern, Pennsylvania; on behalf of itself, its subsidiaries and affiliates, including investment companies registered under the Investment Company Act of 1940, other pooled investment vehicles, and institutional accounts that are sponsored, managed, or advised by Vanguard; to acquire additional voting shares of First Hawaiian, Inc., and thereby indirectly acquire voting shares of First Hawaiian Bank, both of Honolulu, Hawaii.

3. The Vanguard Group, Inc., Malvern, Pennsylvania; on behalf of itself, its subsidiaries and affiliates, including investment companies registered under the Investment Company Act of 1940, other pooled investment vehicles, and institutional accounts that are sponsored, managed, or advised by Vanguard; to acquire additional voting shares of Pacific Premier Bancorp, Inc., and thereby indirectly acquire voting shares of Pacific Premier Bank, both of Irvine, California.

4. The Vanguard Group, Inc., Malvern, Pennsylvania; on behalf of itself, its subsidiaries and affiliates, including investment companies registered under the Investment Company Act of 1940, other pooled investment vehicles, and institutional accounts that are sponsored, managed, or advised by Vanguard; to acquire additional voting shares of PacWest Bancorp, and thereby indirectly acquire voting shares of Pacific Western Bank, both of Beverly Hills, California.

B. Federal Reserve Bank of Chicago (Colette A. Fried, Assistant Vice President) 230 South LaSalle Street, Chicago, Illinois 60690-1414:

1. Robin Saar and Candace Schubert, both of Shannon, Illinois, and Cassandre Rae Mlakar, Lake Carrol, Illinois; to form the Saar Family Control Group, a group acting in concert to retain voting shares of Shannon Bancorp, Inc., and thereby indirectly retain voting shares of First State Bank Shannon-Polo, both of Shannon, Illinois.

C. Federal Reserve Bank of Kansas City (Jeffrey Imgarten, Assistant Vice President) 1 Memorial Drive, Kansas City, Missouri 64198-0001:

1. Charlotte Walden, as trustee of the George D. Walden Family Trust, both of Garden Plain, Kansas; as members of the Walden Family Group, a group acting in concert, to retain voting shares of Garden Plain Bancshares, Inc., and thereby indirectly retain voting shares of Garden Plain State Bank, both of Wichita, Kansas.

In addition, Tyler Walden, Wichita, Kansas; Mary Conley, Savage, Minnesota; and the Kelli Walden Ventling Revocable Trust, Kelli Walden Ventling as trustee, both of Bluffton, South Carolina; to join the Walden Family Group, to retain voting shares of Garden Plain Bancshares, Inc., and thereby indirectly acquire voting shares of Garden Plain State Bank.

Board of Governors of the Federal Reserve System, October 4, 2021.
Michele Taylor Fennell,
Deputy Associate Secretary of the Board.

[FR Doc. 2021-21966 Filed 10-6-21; 8:45 am]

BILLING CODE P